COMMITTEE FOR THE IMPLEMENTATION OF TEXTILE AGREEMENTS

Announcement of Import Limits for Certain Wool Textile Products Produced or Manufactured in the Former Yugoslav Republic of Macedonia; Correction

March 6, 2001.

In the document published in the Federal Register on November 7, 2000 (65 FR 66724), please make the following corrections:

Please insert the following paragraph in the notice, 2nd column, immediately following the 1st full paragraph that begins with “These limits do not apply to goods entered under the Outward Processing Program...” I11“Any shipment for entry under the Outward Processing Program which is not accompanied by valid certification in accordance with the provisions established in the notice and letter to the Commissioner of Customs, published in the Federal Register on December 14, 1999 (see 64 FR 69744), shall be denied entry. However, the Government of Macedonia may authorize the entry and charges to the appropriate specific limits by the issuance of a valid visa. Also see 63 FR 17156, published on April 8, 1998.”

In the letter to the Commissioner of Customs, please insert the following paragraph, 3rd column, immediately following the 3rd paragraph that begins with “These limits do not apply to goods entered under the Outward Processing Program...”

“Any shipment for entry under the Outward Processing Program which is not accompanied by a valid certification in accordance with the provisions established in the letter to the Commissioner of Customs, dated December 9, 1999 (see 64 FR 69744), shall be denied entry. However, the Government of Macedonia may authorize the entry and charges to the appropriate specific limits by the issuance of a valid visa. Also see directive dated April 2, 1998, (63 FR 17156). Any shipment which is declared for entry under the Outward Processing Program but found not to qualify shall be denied entry into the United States.”

D. Michael Hutchinson,
Acting Chairman, Committee for the Implementation of Textile Agreements.

[FR Doc. 01-6196 Filed 3-12-01; 8:45 am]

BILLING CODE 3510-DR-F